DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of March 7, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator for Risk Management (Acting), Federal Emergency Management Agency, Department of Homeland Security.

Community | Community map repository address
Delta County, Michigan (All Jurisdictions)
Docket No.: FEMA-B-2168
City of Escanaba | City Hall, Protective Inspection Department, 410 Ludington Street, Escanaba, MI 49829.
City of Gladstone | City of Gladstone Zoning Administrator's Office, 1100 Delta Avenue, Gladstone, MI 49837.
Little Traverse Bay Bands of Odawa Indians | Little Traverse Bay Bands of Odawa Indians Government Center, 7500 Odawa Circle, Harbor Springs, MI 49740.
Township of Baldwin | Baldwin Township Hall, 5901 Perkins 30.5 Road, Perkins, MI 49872.
Township of Bay De Noc | Bay De Noc Township Hall, 5870 County 513 T Road, Rapid River, MI 49878.
Township of Brampton | Brampton Township Hall, 9019 Bay Shore Drive, Gladstone, MI 49837.
Town of Cornell | Township Supervisor's Office, 9912 River J.5 Lane, Cornell, MI 49818.
Township of Ensign | Ensign Fire Hall, 9498 24th Road, Rapid River, MI 49878.
Township of Escanaba | Escanaba Township Hall, 4618 County 416 20th Road, Gladstone, MI 49837.
Township of Fairbanks | Fairbanks Township Hall, 13717 11th Road, Garden, MI 49835.
Township of Ford River | Ford River Township Building, 3845 K Road, Bark River, MI 49807.
Township of Garden | Township Office, 6316 State Street, Garden, MI 49835.
Township of Maple Ridge | Maple Ridge Community Building, 3892 West Maple Ridge 37th Road, Rock, MI 49880.
Township of Masonville | Masonville Township Office, 10574 North Main Street, Rapid River, MI 49878.
Township of Nahma | Township Hall, 13751 Wells Street, Nahma, MI 49864.
Township of Wells | Township Building, 6436 North 8th Street, Wells, MI 49894.
Village of Garden | Village Hall, 15951 Garden Avenue, Garden, MI 49835.

[FR Doc. 2022-22135 Filed 10-11-22; 8:45 am]

BILLING CODE 9111-23-P